EQUAL EMPLOYMENT OPPORTUNITY COMMISSION

Agency Information Collection Activities: Extension Without Change of An Existing Collection; Comment Request

AGENCY: Equal Employment Opportunity Commission.

ACTION: Final notice of information collection—Uniform Guidelines on Employee Selection Procedures—extension without change.

SUMMARY: In accordance with the Paperwork Reduction Act of 1995, the Equal Employment Opportunity Commission (EEOC or Commission) announces that it has submitted the information described below to the Office of Management and Budget (OMB) for a three-year extension without change.

DATES: Written comments on this notice must be submitted on or before February 5, 2025.

ADDRESSES: Written comments should be sent within 30 days of publication of this final notice to www.reginfo.gov/public/do/PRAMain. Find this particular information collection by selecting “Currently under 30-day Review—Open for Public Comments” or by using the search function.

FOR FURTHER INFORMATION CONTACT: Gary Hozempa, Senior Attorney, at (202) 921-2672 or Gary.Hozempa@eeoc.gov. Requests for this notice in an alternative format should be made to the Office of Communications and Legislative Affairs at (202) 921-3191 (voice), (800) 669-6820 (TTY), or (844) 234-5122 (ASL Video Phone).

SUPPLEMENTARY INFORMATION:

Overview of Current Information Collection

Collection Title: Recordkeeping Requirements of the Uniform Guidelines on Employee Selection Procedures, 29 CFR part 1607, 41 CFR part 60-3, 28 CFR part 50, 5 CFR part 300.

OMB Number: 3046-0017.

Type of Respondent: Businesses or other institutions; Federal Government; State or local governments and farms.

North American Industry Classification System (NAICS) Code: Multiple.

Standard Industrial Classification Code (SIC): Multiple.

Description of Affected Public: Any employer, Government contractor, labor organization, or employment agency covered by the Federal equal employment opportunity laws.

Respondents: 887,869.

Responses: 887,869.

Recordkeeping Hours: 15,422,941 per year.

Number of Forms: None.

Form Number: None.

Frequency of Report: None.

Abstract: The Uniform Guidelines provide fundamental guidance for all title VII-covered employers about the use of employment selection procedures. The records addressed by UGESP are used by respondents to ensure that they are complying with title VII and Executive Order 11246; by the Federal agencies that enforce title VII and Executive Order 11246 to investigate, conciliate, and litigate charges of employment discrimination; and by complainants to establish violations of Federal equal employment opportunity laws. While there is no data available to quantify these benefits, the collection of accurate applicant flow data enhances each employer's ability to address deficiencies in recruitment and selection processes, including detecting barriers to equal employment opportunity.

On October 29, 2024, the Commission published a 60-Day Notice informing the public of its intent to request an extension without change of the information collection requirements from the Office of Management and Budget (89 FR 85963 (October 29, 2024). Public comments were solicited. None were submitted as of the December 30, 2024 deadline for filing.

Burden Statement: There are no reporting requirements associated with UGESP. The burden being estimated is the cost of collecting and storing a job applicant's gender, race, and ethnicity data.

The only paperwork burden derives from this recordkeeping. Only employers covered under title VII and Executive Order 11246 are subject to UGESP. However, for the purposes of burden calculation, data for all employers are counted.¹ The number of employers with 15 or more employees is estimated at 887,869 which combines estimates from private employment,² the public sector,³ colleges and universities,⁴ apprenticeship programs,⁵ and referral unions.⁶ Employers with 15 or more employees represent approximately 13.5% of all employers in the U.S. and employ about 86.2% of all employees in the U.S.⁷

¹ In calculating burden, data from multiple sources are used. Some of these sources do not allow us to identify only those employers who are covered by Title VII (employers with 15 or more employees).

² Source of original data: U.S Census Bureau, 2021 Statistics of U.S. Businesses (SUSB) (Dec. 2023). (https://www.census.gov/data/tables/2021/econ/susb/2021-susb-annual.html). Local Downloadable CSV data. Select U.S. & states, 6 digit NAICS. The original number of employers was adjusted to only include those with 15 or more employees.

³ Source of original data: 2022 Census of Governments: Employment. Individual Government Data File (https://www.census.gov/data/datasets/2022/econ/apes/2022.html), Local Downloadable Data zip file “Individual Unit Files”. The original number of government entities was adjusted to only include those with 15 or more employees.

⁴ Source: U.S. Department of Education, National Center for Education Statistics, IPEDS, Fall 2022, Institutional Characteristics component (provisional data). See Table 1, “Number and percentage distribution of Title IV institutions, by control of institution, level of institution, and region: United States and other U.S. jurisdictions, academic year 2022-23” (https://nces.ed.gov/ipeds/search/viewtable?tableId=35945&returnUrl=%2Fsearch).

⁵ Source: U.S. Department of Labor, Registered Apprenticeship National Results Fiscal Year 2021, Number of active apprenticeship programs in 2021 (https://www.dol.gov/agencies/eta/apprenticeship/about/statistics/2021).

⁶ The EEOC has undertaken measures to enhance the agency's existing EEO-3 data frame (i.e., roster) of potentially eligible filers that was most recently used during the 2022 EEO-3 data collection. The number of referral unions was estimated by comparing the EEOC's 2022 EEO-3 frame to a list of active unions from the U.S. Department of Labor's Office of Labor Management Standards (OLMS) Online Public Disclosure Room (OPDR) database (https://olmsapps.dol.gov/olpdr/).

⁷ Source of original data: U.S Census Bureau, 2021 Statistics of U.S. Businesses (SUSB) (Dec. 2023). (https://www.census.gov/data/tables/2021/econ/susb/2021-susb-annual.html). Local Downloadable CSV data. Select U.S. & states, 6 digit NAICS. The original number of employers was adjusted to only include those with 15 or more employees.

This burden assessment is based on an estimate of the number of job applications submitted to all employers in one year, including paper-based and electronic applications. The total number of job applications submitted every year to covered employers is estimated to be 1,850,752,956 based on an average of approximately 26 applications ⁸ for every hire and a Bureau of Labor Statistics data estimate of 71,046,000 annual hires.⁹ This figure also includes 136,806 applicants for union membership reported on the EEO-3 form for 2022. The employer burden associated with collecting and storing applicant demographic data is based on the following assumptions: applicants would need to be asked to provide three pieces of information—sex, race/ethnicity, and an identification number (a total of approximately 13 keystrokes); the employer may need to transfer information received to a database either manually or electronically; and the employer would need to store the 13 characters of information for each applicant. Recordkeeping costs and burden are assumed to be the time cost associated with entering 13 keystrokes.

⁸ The average number of applicants per job opening in 2023, according to the iCIMS 2024 January Workforce Report (https://icims.drift.click/January-2024-Workforce-Report).

⁹ Bureau of Labor Statistics Job Openings and Labor Turnover Survey, 2023 annual level data (seasonally adjusted), (http://www.bls.gov/jlt/data.htm) is the source of the original data. The BLS figure includes new hires in both the public and the private sectors across all employer sizes.

Assuming that the required recordkeeping takes 30 seconds per record, and assuming a total of 1,850,752,956 paper and electronic applications per year (as calculated above), the resulting UGESP burden hours would be 15,422,941. Based on a wage rate of $22.94 ¹⁰ per hour for the individuals entering the data, the collection and storage of applicant demographic data would come to approximately $353,802,267 per year. The foregoing assumptions likely are over-inclusive because many employers have electronic job application processes that should be able to capture applicant flow data automatically. While the burden hours and costs for the UGESP recordkeeping requirement seem large, the average burden per employer is relatively small. UGESP applies to an estimated 887,869 employers, or about 13.5% of employers in the U.S, and these employers employ about 86.2% of employees in the U.S.¹¹ Therefore, the estimated cost per covered employer is about $398. Additionally, 36.4% of employees work for firms with at least 5,000 employees,¹² for which the burden of data entry is transferred to the applicants via use of electronic application systems. Finally, UGESP allows for simplified recordkeeping for employers with more than 15 but less than 100 employees.¹³

¹⁰ Burden hour cost estimates are based on the median hourly wage rate of $22.94 for Human Resources Assistants, except payroll and timekeeping obtained from the Bureau of Labor Statistics, May 2023 (see U.S. Department of Labor, Bureau of Labor Statistics, Occupational Employment and Wage Statistics, https://www.bls.gov/oes/current/oes434161.htm).

¹¹ Source of original data: U.S Census Bureau, 2021 Statistics of U.S. Businesses (SUSB) (Dec. 2023). (https://www.census.gov/data/tables/2021/econ/susb/2021-susb-annual.html). Local Downloadable CSV data. Select U.S. & states, 6 digit NAICS. The original number of employers was adjusted to only include those with 15 or more employees.

¹² Source of original data: 2021 Economic Census. (https://www.census.gov/data/tables/2021/econ/susb/2021-susb-annual.html). Local Downloadable CSV data. Select U.S. & states, 6 digit NAICS. The original number of employers was adjusted to only include those with 15 or more employees.

¹³ See 29 CFR 1607.15A(1): Simplified recordkeeping for users with less than 100 employees. In order to minimize recordkeeping burdens on employers who employ one hundred (100) or fewer employees, and other users not required to file EEO-1, et seq., reports, such users may satisfy the requirements of this section 15 if they maintain and have available records showing, for each year: (a) The number of persons hired, promoted, and terminated for each job, by sex, and where appropriate by race and national origin; (b)The number of applicants for hire and promotion by sex and where appropriate by race and national origin; and (c) The selection procedures utilized (either standardized or not standardized).

For the Commission.
Dated: December 31, 2024.
Charlotte A. Burrows,
Chair.

[FR Doc. 2024-31755 Filed 1-3-25; 8:45 am]

BILLING CODE 6570-01-P